NATIONAL SCIENCE FOUNDATION

Notice of Permit Applications Received Under the Antarctic Conservation Act of 1978

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at title 45 part 670 of the Code of Federal Regulations. This is the required notice of permit applications received.

DATES: Interested parties are invited to submit written data, comments, or views with respect to this permit application by December 9, 2015. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Nature McGinn, ACA Permit Officer, at the above address or ACApermits@nsf.gov or (703) 292-7149.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2016-017

1. Applicant: Vincent LiCata Louisiana State University & Agricultural and Mechanical College, Baton Rouge, LA 70803-2701.

Activity for Which Permit Is Requested

ASPA entry; The applicant is an artist funded by the National Science Foundation's Antarctic Artist & Writer's program. The applicant is seeking a permit to be able to enter several ASPAs in order to take still and moving photos to re-stage iconic images from the Heroic Age, using contemporary researchers in present-day settings. These reenactments would be used to create moving photograph video installations with the purpose of connecting historical Antarctic exploration with modern research activities. In order to inspire and inform the public, the installation would tour to ~20 institutions over a period of 2 years. If approved, the applicant would be accompanied in by experienced field staff who is familiar with the environmental sensitivities of the Area and would ensure that the applicant acts in accordance with the management plan for the Area.”

Location

ASPA 121 Cape Royds; ASPA 122 Arrival Heights; ASPA 155 Cape Evans; ASPA 157 Backdoor Bay; ASPA 158 Hut Point.

Dates

January 1 to February 20, 2016.

Nadene G. Kennedy,
Polar Coordination Specialist, Division of Polar Programs.

[FR Doc. 2015-28381 Filed 11-6-15; 8:45 am]

BILLING CODE 7555-01-P